DEPARTMENT OF TRANSPORTATION

Pipeline and Hazardous Materials Safety Administration

[Docket No. PHMSA-03-15852]

RIN 2137-AD96

Request for Public Comments and Office of Management and Budget (OMB) Approval of a New Information Collection as Required by the Final Rule Titled “Pipeline Safety: Public Awareness Programs for Hazardous Liquid and Gas Pipeline Operators.”

AGENCY: Pipeline and Hazardous Materials Safety Administration (PHMSA), Department of Transportation (DOT).

SUMMARY: This notice requests public participation in the OMB approval process for a new PHMSA information collection related to a final rule requiring pipeline operators to establish public awareness programs. In compliance with the Paperwork Reduction Act of 1995, this notice announces that the Information Collection Request (ICR) described below has been forwarded to OMB for an approval of a new collection. The ICR describes the nature of the information collection and the expected burden. PHMSA received no comments in response to a request for comment on the information collection during the rulemaking. The final rule was published on May 19, 2005. The purpose of this notice is to allow the public an additional 30 days from the date of this notice to submit comments in the information collection.

DATES: Comments must be submitted on or before July 6, 2006.

ADDRESSES: Send comments to the Office of Information and Regulatory Affairs, Office of Management and Budget, 725 17th Street, NW., Washington, DC 20503, Attention DOT Desk Officer.

FOR FURTHER INFORMATION CONTACT: Blaine Keener by phone at (202) 366-0970, or by e-mail at blaine.keener@dot.gov.

SUPPLEMENTARY INFORMATION: PHMSA invites comments on whether the collection of information related to the final rule requiring pipeline operators to establish public awareness programs is necessary for the proper performance of the functions of the Department, including whether the information will have practical utility; the accuracy of the Department's estimate of the burden of the information collection; ways to enhance the quality, utility, and clarity of the information to be collected; and ways to minimize the burden of the collection of information on respondents, including the use of automated collection techniques or other forms of information technology. PHMSA solicited comments on this information collection request as part of the rulemaking but received no comments. PHMSA published a Final Rule on May 19, 2005 (70 FR 28833).

As used in this notice, “information collection” includes all work related to preparing and disseminating information related to this recordkeeping requirement including completing paperwork, gathering information and conducting telephone calls.

Type of Information Collection Request: New Collection.

Title of Information Collection: Public Awareness Program.

Respondents: 22,500 Hazardous liquid and natural gas pipeline operators.

Estimated Total Burden on Respondents: 517,480 hours.

Issued in Washington, DC on May 31, 2006.
Florence L. Hamn,
Director of Regulations, Office of Pipeline Safety.

[FR Doc. E6-8696 Filed 6-5-06; 8:45 am]

BILLING CODE 4910-60-P